ENVIRONMENTAL PROTECTION AGENCY

[EPA-HQ-OW-2016-0178; FRL-10935-01-OMS]

Agency Information Collection Submission to the Office of Management and Budget for Review and Approval; Comment Request; EPA Application Materials for the Water Infrastructure Finance and Innovation Act (Renewal)

AGENCY: Environmental Protection Agency (EPA).

ACTION: Notice.

SUMMARY: The Environmental Protection Agency (EPA) has submitted an information collection request (ICR), EPA Application Materials for the Water Infrastructure Finance and Innovation Act (EPA ICR Number 2549.02, OMB Control Number 2040-0292) to the Office of Management and Budget (OMB) for review and approval in accordance with the Paperwork Reduction Act. This is a proposed extension of the ICR, which is currently approved through April 30, 2023. Public comments were previously requested via the Federal Register on September 19, 2022 during a 60-day comment period. This notice allows for an additional 30 days for public comments.

DATES: Comments may be submitted on or before May 30, 2023.

ADDRESSES: Submit your comments, referencing Docket ID Number EPA-HQ-OW-2016-0178, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Amelia Letnes, Water Infrastructure Division, Office of Wastewater Management, 4201-T, Environmental Protection Agency, 1200 Pennsylvania Ave. NW, Washington, DC 20460; telephone number: 202-564-5627; email address: Letnes.amelia@epa.gov.

SUPPLEMENTARY INFORMATION: This is a proposed extension of the ICR, which is currently approved through April 30, 2023. An agency may not conduct or sponsor and a person is not required to respond to a collection of information unless it displays a currently valid OMB control number.

Public comments were previously requested via the Federal Register on September 19, 2022 during a 60-day comment period (87 FR 57194). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The collection of information is necessary in order to receive applications for credit assistance pursuant to section 5024 of the Water Infrastructure Finance and Innovation Act (WIFIA) of 2014, 33 U.S.C. 3903. The purpose of the WIFIA program is to provide Federal credit assistance in the form of direct loans and loan guarantees to eligible water infrastructure projects.

WIFIA requires that an eligible entity submit to the Administrator an application at such time, in such manner, and containing such information, as the Secretary or the Administrator may require to receive assistance under WIFIA. In order to satisfy these requirements, EPA must collect an application from prospective borrowers seeking funding. The Letters of Interest and Applications collected from prospective borrowers through this solicitation will be used by the EPA, WIFIA program staff, and reviewers to evaluate applications for credit assistance under the WIFIA eligibility requirements and selection criteria.

Form Numbers: EPA 6100-030, 6100-031, 6100-32, 6100-033, 6100-054, 6100-080.

Respondents/affected entities: Corporations, partnerships, joint ventures, trusts, federal, state, or local government entities, tribal governments or a consortium of tribal governments, and state infrastructure finance authorities.

Respondent's obligation to respond: Required to obtain or retain a benefit (section 5024 of WIFIA, 33 U.S.C. 3903).

Estimated number of respondents: 105 per year (total).

Frequency of response: One per funding round.

Total estimated burden: 10,450 hours (per year). Burden is defined at 5 CFR 1320.03(b).

Total estimated cost: $10,772,065 (per year), which includes $10,000,000 annualized capital or operation & maintenance costs.

Changes in the Estimates: There is a decrease of 375 hours in the total estimated respondent burden compared with the ICR currently approved by OMB. This decrease is due to EPA anticipating fewer collections based on average numbers in the past 3 years. That decrease is offset by a small increase due to a new form.

Courtney Kerwin,
Director, Regulatory Support Division.

[FR Doc. 2023-08874 Filed 4-26-23; 8:45 am]

BILLING CODE 6560-50-P